ENVIRONMENTAL PROTECTION AGENCY

40 CFR Part 180

[EPA-HQ-OPP-2015-0230; FRL-9929-03]

RIN 2070-ZA16

Banda de Lupinus albus doce (BLAD); Proposed Pesticide Tolerance; Technical Correction

AGENCY: Environmental Protection Agency (EPA).

ACTION: Proposed rule; technical correction.

SUMMARY: EPA issued a proposed rule in the Federal Register of May 29, 2015, concerning Banda de Lupinus albus doce (BLAD), in or on all food commodities. This document corrects typographical errors.

DATES: Comments must be received on or before July 28, 2015.

ADDRESSES: Follow the detailed instructions as provided under ADDRESSES in the Federal Register document of May 29, 2015 (80 FR 30640) (FRL-9927-02).

FOR FURTHER INFORMATION CONTACT: Robert McNally, Director, Biopesticides and Pollution Prevention Division (7511P), Office of Pesticide Programs, Environmental Protection Agency, 1200 Pennsylvania Ave. NW., Washington, DC 20460-0001; telephone number: (703) 305-7090; email address: BPPDFRNotices@epa.gov.

SUPPLEMENTARY INFORMATION:

I. Does this action apply to me?

The Agency included in the May 29, 2015 proposed rule a list of those who may be potentially affected by this action.

II. What does this technical correction do?

EPA issued a proposed rule in the Federal Register of May 29, 2015, that was concerning Banda de Lupinus albus doce (BLAD), in or on all food commodities. EPA inadvertently listed a government agency incorrectly.

The preamble for FR Doc. 2015-12530 published in the Federal Register of May 29, 2015 (80 FR 30640) (FRL-9927-02) is corrected as follows:

1. On page 30640, second column, under the heading ENVIRONMENTAL PROTECTION AGENCY, line 4, correct Banda de Lupinus albus doce BLAD to read Banda de Lupinus albus doce (BLAD).

2. On page 30641, second column, paragraph 3, line 3, Federal Drug Administration is corrected to read: Food and Drug Administration.

III. Do any of the statutory and executive order reviews apply to this action?

No. For a detailed discussion concerning the statutory and executive order review, refer to Unit VII. of the May 29, 2015 proposed rule.

List of Subjects in 40 CFR Part 180

Environmental protection, Administrative practice and procedure, Agricultural commodities, Pesticides and pests, Reporting and recordkeeping requirements.

Dated: June 11, 2015.
Robert McNally,
Director, Biopesticides and Pollution Prevention Division.

[FR Doc. 2015-15403 Filed 6-23-15; 8:45 am]

BILLING CODE 6560-50-P